DEPARTMENT OF HOMELAND SECURITY

Coast Guard

33 CFR Parts 148, 149, and 150

[Docket No. USCG-2012-0061]

RIN 1625-AB92

Deepwater Ports

AGENCY: Coast Guard, DHS.

ACTION: Notice of proposed rulemaking; withdrawal.

SUMMARY: The Coast Guard is withdrawing its notice of proposed rulemaking (NPRM) titled “Deepwater Ports” that we published on April 9, 2015. The Coast Guard is taking this action because we will not be pursuing the proposed changes at this time. The Coast Guard may issue a new rulemaking in the future if warranted.

DATES: The NPRM published on April 9, 2015 (80 FR 19118) is withdrawn as of August 29, 2025.

ADDRESSES: The docket for this withdrawn proposed rule is available at the Federal eRulemaking Portal at www.regulations.gov. Please search for docket number USCG-2012-0061.

FOR FURTHER INFORMATION CONTACT: For information about this document call or email Brent Yezefski, Coast Guard; telephone 571-608-3191, email brent.c.yezefski@uscg.mil.

SUPPLEMENTARY INFORMATION:

I. Abbreviations

CFR Code of Federal Regulations

FR Federal Register

NPRM Notice of proposed rulemaking

OMB Office of Management and Budget

II. Background

On April 9, 2015, the Coast Guard published a notice of proposed rulemaking (NPRM) titled “Deepwater Ports” (80 FR 19118).¹ A deepwater port is any fixed or floating manmade structure other than a vessel, or a group of such structures located beyond State seaward boundaries and used or intended for use as a port or terminal for the transportation, storage, or further handling of oil or natural gas for transportation to or from any State, except as otherwise provided in the Deepwater Port Act of 1974, as amended. The Coast Guard proposed revisions to its regulations in 33 CFR parts 148, 149, and 150 for the licensing, construction, design, equipment, and operation of deepwater ports.

¹ https://www.federalregister.gov/documents/2015/04/09/2015-06611/deepwater-ports.

The comment period ended on July 8, 2015. The Coast Guard received 26 comments (including two duplicate submissions) on our April 2015 NPRM. The comments are available in the docket. Since 2015, the Coast Guard has not published any other actions related to this rulemaking and has decided to withdraw the NPRM.

III. Withdrawal

The Coast Guard is withdrawing the proposed rule because the Coast Guard concluded that it will not be pursuing the proposed changes at this time. The Coast Guard will continue to engage with stakeholders regarding potential revisions to Subchapter NN. The Coast Guard's existing regulations in 33 CFR parts 148, 149, and 150 remain in effect.

IV. Executive Order 14192

The withdrawal of this NPRM is an Executive Order 14192 deregulatory action. See Office of Management and Budget (OMB) Memorandum M-25-20, “Guidance Implementing Section 3 of Executive Order 14192, Titled ‘Unleashing Prosperity Through Deregulation’ ” (March 26, 2025).

V. Conclusion

The Coast Guard withdraws the “Deepwater Ports” proposed rulemaking announced in an NPRM published April 9, 2015 (80 FR 19118). Upon publication of this notice, the Coast Guard will classify the corresponding Unified Agenda entry as a completed action. This notice is issued under authority of 5 U.S.C. 552(a) and is consistent with the procedures set forth in 5 U.S.C. 553 of the Administrative Procedure Act.

Dated: August 26, 2025.
W.R. Arguin,
Rear Admiral, U.S. Coast Guard, Assistant Commandant for Prevention Policy.

[FR Doc. 2025-16597 Filed 8-28-25; 8:45 am]

BILLING CODE 9110-04-P